DEPARTMENT OF COMMERCE

National Institute of Standards and Technology

[Docket No.: 050728206-5206-01]

“Notify U.S.”—New Web Service Tracks Changing Technical Regulations

AGENCY: National Institute of Standards and Technology, Commerce.

ACTION: Notice.

SUMMARY: The National Institute of Standards and Technology (NIST) publishes this notice to announce the availability of Notify U.S., a free, web-based e-mail service that offers U.S. citizens, industries, and organizations an opportunity to review and comment on proposed foreign technical regulations that can affect their businesses and their access to international markets. The service is operated by the National Center for Standards and Certification Information (NCSCI) at NIST. NCSCI is the nation's designated Inquiry Point under the World Trade Organization (WTO) Agreement on Technical Barriers to Trade (TBT).

Notify U.S. is the successor to Export Alert!, an e-mail service for proposed technical regulations previously offered by NIST. This new, web-based service offers fast and comprehensive information on proposed technical regulations and conformity assessment procedures from foreign governments that might influence U.S. exports.

Notify U.S. provides users with access to notifications and full texts of regulations issued by the WTO members. In addition, users can monitor proposed changes across chosen countries and 41 fields of industrial or technical activities, or they can select a subset of fields.

ADDRESSES: To learn more—and to sign up for the service—go to the Notify U.S. Web site at www.nist.gov/notifyus.

FOR FURTHER INFORMATION CONTACT: For information regarding Notify U.S., contact Ms. Anne Meininger, Technical Information Specialist, National Center for Standards and Certification Information, NIST, 100 Bureau Drive, MS-2160, Gaithersburg, MD 20899; (301) 975-2921.

Dated: August 22, 2005.
William Jeffrey,
Director.

[FR Doc. 05-17022 Filed 8-25-05; 8:45 am]

BILLING CODE 3510-13-P